DEPARTMENT OF HEALTH AND HUMAN SERVICES

Centers for Disease Control and Prevention

Board of Scientific Counselors for the National Center for Public Health Informatics

In accordance with section 10(a)(2) of the Federal Advisory Committee Act (Pub. L. 92-463), the Centers for Disease Control and Prevention (CDC) announces the following committee meeting:

Name: Board of Scientific Counselors for the National Center for Public Health Informatics.

Time and Date: 5 p.m.-9 p.m., August 27, 2008.

Place: The Westin Peachtree Plaza, 210 Peachtree Street, Atlanta, Georgia 30303.

Status: Open to the public, limited only by the space available.

Purpose: The committee shall advise the Secretary, HHS, and the Director, CDC, concerning strategies and goals for the programs and research within the national centers; shall conduct peer-review of scientific programs; and monitor the overall strategic direction and focus of the national centers. The board, after conducting its periodic reviews, shall submit a written description of the results of the review and its recommendations to the Director, CDC. The board shall perform second-level peer review of applications for grants-in-aid for research and research training activities, cooperative agreements, and research contract proposals relating to the broad areas within the national centers.

Matters To Be Discussed: The agenda will include an overview of the National Center for Public Health Informatics (NCPHI), including its mission, scope and goals. Detailed discussions will take place on the following issues: BioSense Strategic Planning, Open Source Models, and Organizational Issues for NCPHI.

Agenda items are subject to change as priorities dictate.

FOR FURTHER INFORMATION CONTACT: Thomas G. Savel, M.D., Designated Federal Official, National Center for Public Health Informatics, CDC, 1600 Clifton Road, NE., MS E78, Atlanta, Georgia 30333. Telephone 404/498-2475.

The Director, Management Analysis and Services office has been delegated the authority to sign Federal Register notices pertaining to announcements of meetings and other committee management activities for both the Centers for Disease Control and Prevention and the Agency for Toxic Substances and Disease Registry.

Dated: July 8, 2008.
Diane Allen,
Acting Director, Management Analysis and Services Office, Centers for Disease Control and Prevention.

[FR Doc. E8-16449 Filed 7-17-08; 8:45 am]

BILLING CODE 4163-18-P